DEPARTMENT OF TRANSPORTATION

Coast Guard

33 CFR Parts 175, 177, 179, 181, and 183

46 CFR Parts 2, 10, 15, 24, 25, 26, 30, 70, 90, 114, 169, 175, 188, and 199

[USCG-1999-5040]

RIN 2115-AF69

Safety of Uninspected Passenger Vessels Under the Passenger Vessel Safety Act of 1993 (PVSA)

AGENCY: Coast Guard, DOT.

ACTION: Final rule.

SUMMARY: The Coast Guard establishes this final rule to implement safety measures for uninspected passenger vessels under the Passenger Vessel Safety Act of 1993 (PVSA). This Act authorizes the Coast Guard to amend operating and equipment guidelines for uninspected passenger vessels over 100 gross tons, carrying 12 or fewer passengers for hire. These regulations will implement this new class of uninspected passenger vessel, provide for the issuance of special permits to uninspected vessels participating in a Marine Event of National Significance (e.g., OPSAIL 2000 and Tall Ships 2000), and develop specific manning, structural fire protection, operating, and equipment requirements for a limited fleet of PVSA-exempted vessels.

DATES: This final rule is effective June 14, 2002.

ADDRESSES: Comments and material received from the public, as well as documents mentioned in this preamble as being available in the docket, are part of docket USCG-1999-5040 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: If you have questions on this rule, call Michael A. Jendrossek, Office of Operating and Environmental Standards (G-MSO-2), Coast Guard, telephone 202-267-0836. If you have questions on viewing the docket, call Dorothy Beard, Chief, Dockets, Department of Transportation, telephone 202-366-5149.

SUPPLEMENTARY INFORMATION:

Regulatory History

On March 2, 2000, we published a notice of proposed rulemaking (NPRM) entitled “Safety of Uninspected Passenger Vessels Under the Passenger Vessel Safety Act of 1993 (PVSA)” in the Federal Register (65 FR 11410). In order to prepare for the Year 2000's millennium sailing events, a 30-day comment period was provided for the changes proposed to 46 CFR 26.03-8, and an interim rule (IR) amending that section was published April 28, 2000 (65 FR 24878). Other changes proposed by the March 2, 2000 NPRM were subject to a 90-day comment period. We received six letters commenting on the proposed rule. No public hearing was requested and none was held.

Background and Purpose

We discussed the background and purpose of this rulemaking in fuller detail in the March 2, 2000 NPRM (65 FR 11410). Briefly, the Passenger Vessel Safety Act of 1993 (PVSA) (Pub. L. 103-206, title V, Dec. 20, 1993, 107 Stat. 2439) dealt with subjecting some formerly chartered vessels to Coast Guard inspection.

The PVSA also made several changes to the laws for vessels that carry passengers.

First, the PVSA required a vessel of less than 100 gross tons to be inspected as a small passenger vessel if it is—

• Carrying more than six passengers, including at least one passenger-for-hire;

• Chartered with crew provided or specified by the owner or owner's representative and carrying more than six passengers;

• Chartered with no crew provided or specified by the owner or the owner's representative and carrying more than 12 passengers; or

• A submersible vessel carrying at least one passenger-for-hire.

Second, the PVSA provided an exemption for certain vessels that were unable to meet inspection criteria. Sixteen vessels applied to the Coast Guard for exemptions, and four exemptions were granted. The PVSA authorized the Coast Guard to develop specific operating and equipment requirements for these vessels.

Third, the PVSA broadened the definition of uninspected passenger vessel to include vessels of at least 100 gross tons carrying not more than 12 passengers, including at least one passenger-for-hire; or vessels that are chartered with crew provided or specified by the owners or the owners' representatives and carrying not more than 12 passengers. These vessels are commonly referred to as 12-pack vessels. Vessels of at least 100 gross tons that carry more than 12 passengers, at least one of whom is for hire, must be inspected as passenger vessels under Code of Federal Regulations (CFR) Title 46, chapter I, subchapter H.

Fourth, the PVSA directed the Coast Guard to develop regulations necessary to implement equipment, construction, and operating requirements for uninspected passenger vessels operating as 12-pack vessels.

Fifth, the PVSA authorized the Coast Guard to develop regulations to issue special permits to uninspected vessels, thus, broadening authority from the now standard excursion permit for inspected vessels to include special permits for uninspected vessels. Special permits may be issued to an uninspected passenger vessel for charitable purposes up to a maximum of four times in a 12-month period. Special permits may also be issued to the owner or operator of a vessel that is a registered participant in an event that the Commandant, U.S. Coast Guard, declares to be a Marine Event of National Significance.

Discussion of Comments and Changes

The March 2, 2000 NPRM details the specific changes made by this rulemaking. We received six letters in response to the NPRM (excluding those relating to 46 CFR 26.03-8, which were discussed in the interim rule published April 28, 2000, at 65 FR 24878). The discussion below is limited to a review of those public comments, along with our response to each, and a discussion of the specific changes now being made in addition to or instead of changes proposed in the NPRM.

(1) One comment stated that we should establish a user fee for the issuance of excursion permits per 46 U.S.C. 2110. We already collect inspection-service user fees from inspected passenger vessels and do not have the authority to establish a new user fee category.

(2) One comment stated that we failed to account for the full costs of equipping the 406 MHz EPIRB, including battery replacement and additional “false alert” responses due to the additional units in service. EPIRB battery replacement costs were included in the Analysis Documentation, Appendix 6, supporting the March 2, 2000 NPRM (This documentation is available in the docket for this rulemaking at http://dms.dot.gov.). We do not agree that there is any tangible false alert cost associated with additional EPIRBs. Satellite EPIRBs are required to be registered. In addition, their digital message includes beacon identification. With this information, the signaling EPIRB can quickly identify the distressed vessel and its owner. A radio or telephone call will normally confirm a false alarm. If an EPIRB on a docked, unattended vessel malfunctions, the COSPAS-SARSAT satellite system makes locating it relatively simple. False alerts from interference sources are not a problem on the 406 MHz satellite frequency, as they were with the old 121.5 MHz frequency. The false alert rate from 406 MHz satellite EPIRBs is low, and any added load created by this rulemaking can be handled without additional resources.

(3) Two comments state that we lack authority to modify the clear provisions of 46 U.S.C. 8102 and 46 U.S.C. 8104, regarding cabin watchmen and watch standing. Section 511 of the PVSA gives us the necessary authority to establish different operating and equipment requirements for uninspected passenger vessels over 100 gross tons carrying 12 or fewer passengers.

(4) One comment says we should clarify the provisions of proposed 46 CFR 26.03-6(b)(2) regarding the deduction of vessel operating expenses from “charitable donations” prior to their disbursement. We do not have the authority to allow any retention of these proceeds. The Internal Revenue Service (IRS) should be consulted regarding any tax relief that may be available. If such vessel operating expenses are allowed by the IRS as tax deductions, the Coast Guard will not view this as a consideration when determining whether a vessel is carrying passengers for hire.

(5) One comment asks why the requirement for signaling lights is limited to vessels on an international voyage when chapter V of SOLAS is not so limited. Our proposed requirement reflects the wording of SOLAS Chapter V, regulation 11, which does include such a limitation.

(6) One comment stresses the importance of getting disaster survivors out of the water as quickly as possible, and asks us to delete buoyant apparatuses and life floats from proposed 46 CFR 25.25-17. We agree and will make this change. We believe that because these vessels are uninspected and for the most part capable of extended ocean voyages, a higher level of safety equipment is required.

(7) One comment suggests we add a basic definition and clarifying language for bareboat charters. The comment states that this is necessary to help alleviate confusion over the types of arrangements made in contracting a vessel and its manner of use. We agree with this comment and will add the definition of demise charter to 46 CFR 169.107.

(8) One comment expresses concern that the change to 46 CFR 15.905 would inadvertently penalize a large segment of licensed mariners by restricting them to the tonnage limit of their license (e.g., a master of inspected vessels up to 50 gross tons would be limited to operating a 50 gross ton uninspected passenger vessel). We agree with this comment and will incorporate clarifying language into 46 CFR 15.905.

(9) One comment suggests we are perpetuating the carrying of passengers on uninspected barges that were designed solely for the carriage of bulk cargoes or for use as work platforms. We have investigated past allegations of uninspected barges carrying passengers and found that these operations were purely voluntary. No consideration flowed to the operators involved. Vessel operations of this type are not regulated by the Coast Guard as commercial operations and, therefore, are not subject to the requirements of the PVSA. We are committed to ensuring that all vessels that carry passengers comply with the laws and regulations that apply to their specific operations.

(10) One comment expresses concern that 12-pack vessels will be required to comply with load line requirements, where applicable. Noting the expense and burden of compliance, the comment asks us to establish alternative criteria to make load line assignment less difficult and more cost effective. We disagree with this comment. As stated in the NPRM, the load line is a safety device that verifies, through annual surveys, a vessel's seaworthiness. This is an important factor for 12 pack vessels that are capable of trans-oceanic intercontinental voyages.

(11) One comment questions the application of 46 CFR, part 175 to vessels operating under an exemption afforded in the PVSA. The comment states that an exempt vessel presently operates under the scrutiny of the Coast Guard and, therefore, has an existing Certificate of Inspection (COI) reflecting its seaworthiness. We are adding 46 CFR 175.118 so that the provisions of 46 CFR, chapter I, subchapter T apply to PVSA-exempt vessels. This is necessary because these vessels, all of which are over 100 gross tons, currently are not capable of meeting the more stringent requirements of 46 CFR, chapter I, subchapter H.

(12) One comment asks if the regulation for special permits for charitable fundraising activities applies to a non-profit organization that owns its own vessel. That regulation applies to any vessel owner/operator, including a non-profit organization.

(13) One comment asks how we can enforce the requirement for a voyage plan if a plan is transmitted verbally from the vessel to the berthing location or managing representative. Under 46 CFR 26.03-9, the required information must be provided on request, making it prudent for responsible persons to record the information to ensure its availability if needed.

(14) Although not prompted by public comment, we have revised several other proposed changes made in the NPRM. These nonsubstantive revisions are explained below:

• In § 10.466, Requirements for licenses as apprentice mate (steersman) of towing vessels, we revised this section in order to upgrade licensing requirements. In an action unrelated to this rulemaking, § 10.466 was redesignated § 10.467 after we published the NPRM. We have decided to change the section heading of new § 10.467 by adding the phrase “of less than 100 gross tons.” However, we will make no other changes to that section. Instead, the upgrade in licensing requirements originally proposed for old § 10.466/new § 10.467 now is made in 46 CFR 15.605, using slightly different but substantively unchanged language.

• In § 15.301, Definitions of terms used in this part, we added the definition of “operate, operating, or operation” for clarity.

• In § 24.10-1, we rewrote the definition of “international voyage” (which was previously located at § 24.10-13) to match the definition of that term in 46 CFR 175.400.

• In § 70.10-1, we rewrote the definition of “vessel” (which was previously located at § 70.10-45) for clarity.

• In § 169.107, Definitions, we reformatted the section and rewrote the definition of “sailing instruction” to conform to the reformatting.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, 1979).

A final Regulatory Evaluation under paragraph 10e of the regulatory policies and procedures of DOT is available in the docket as indicated under ADDRESSES.

A summary of the Regulatory Evaluation follows: Each vessel greater than 100 gross tons, which is currently operating as an uninspected passenger vessel and carries 12 or fewer passengers, has to obtain: (1) An Emergency Position Indicating Radio Beacon (EPIRB), (2) enough survival craft for all persons onboard, and (3) an operator with the appropriate master-level license. The Coast Guard estimates that all vessels operating in this type of trade are already in compliance with the proposed survival craft and licensing requirements; however, they are not in compliance with the EPIRB requirement. The use of EPIRBs will allow the Coast Guard to respond quicker to incidents by providing the location of the casualty and additional, relevant information prior to the arrival of the rescue team. The 10-year (2001 to 2010) present value cost of complying with the EPIRB requirement is estimated to be $100,121.

This rulemaking creates a class of vessel (i.e., 12 pack) not previously in existence. If no vessel owner decides to enter this new class of vessel, the cost of this component of the rulemaking would be $0, as it is not a requirement for any existing vessel to enter this class. However, the Coast Guard estimates that the owners of 570 vessels will choose to enter this class of vessel. The 10-year present value cost of this non-mandatory component is $12,882,008. The Coast Guard considers the cost to be non-mandatory because owners are not required to enter this new class of vessel.

Additionally, this rule affects uninspected passenger vessels participating in Marine Events of National Significance. The Coast Guard will inspect the vessels not possessing the appropriate certification and issue special permits that allow these vessels to carry passengers during the event. Vessel owners will have an information request burden as they must apply for permits. The 10-year, present value cost of this information collection request is $2,064. As participation in these events is not a requirement of the rulemaking, these costs are considered non-mandatory. The intent of this requirement is to provide a safer marine environment at Marine Events of National Significance. While there have been no notable problems at such past events, the Coast Guard is acting proactively to reduce the risk of marine casualties.

In summary, the total cost of this rulemaking is attributed to the requirement to install and maintain EPIRBs on vessels. The 10-year present value cost of this requirement is $100,121.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. No comments were received to our previous certification in the NPRM regarding the regulatory flexibility impact.

The only type of small entity that will be affected by this rulemaking is small business. The size standards for the relevant North American Industry Classification System (NAICS) codes (Deep Sea Passenger Transportation, 483112; Coastal and Great Lakes Passenger Transportation, 483114; Inland Water Passenger Transportation, 483212; and Scenic and Sightseeing Transportation, Water, 48721) consider enterprises with 500 or fewer employees to be small businesses, making practically all owners in the 12-pack industry small entities. However, the only mandatory cost in this rulemaking is the cost of an EPIRB. We do not expect that owners of vessels of this size and type, whose annual revenue ranges from about $100 thousand to about $5 million, will consider an additional cost of $1,000 per EPIRB to be significant. In addition, since the useful life of an EPIRB is indefinite, the annualized cost for this item over the 10-year period of analysis is $110, which is furthermore likely to be insignificant. The rule also has a 6-month phase-in period for owners to comply with the carriage of an EPIRB onboard.

Therefore, the Coast Guard certifies under 5 U.S.C. 605(b) that this final rule will not have a significant economic impact on a substantial number of small entities.

Assistance for Small Entities

Under section 213(a) of the Small Business Regulatory Enforcement Fairness Act of 1996 (Pub. L. 104-121), we offered to assist small entities in understanding this rule so that they can better evaluate its effects on them and participate in the rulemaking.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for a new collection of information under the Paperwork Reduction Act of 1995 (44 U.S.C. 3501-3520). As required in 46 CFR 26.03-8, an owner, operator, or agent of a vessel that is registered as a participant in a Marine Event of National Significance may submit an application for special permit (form CG-950A) to carry passengers-for-hire for the duration of the event. The application will be used to initiate the inspection process to determine whether a vessel is properly equipped to be granted the special permit.

No comments were received regarding the collection of information burden.

This rule amends an existing Office of Management and Budget (OMB) approved collection, OMB Control Number 2115-0133, that expires on April 30, 2003. As required by 44 U.S.C. 3507(d), we submitted a copy of this rule to the Office of Management and Budget (OMB) for its review of the collection of information. OMB has not yet approved the changes to this collection. We will publish an additional notice when they do. Until we publish its approval, you are not required to respond to a collection of information unless it displays a currently valid OMB control number.

Federalism

A rule has implications for federalism under Executive Order 13132, Federalism, if it has a substantial direct effect on State or local governments and would either preempt State law or impose a substantial direct cost of compliance on them.

We have analyzed this rule and have determined that it does not have federalism implications under that Order because it regulates with respect to categories, (construction, equipment and operation of certain uninspected passenger vessels) in such a comprehensive manner, that State laws or regulations on the same subjects are precluded. Any such state laws or regulations would necessarily either conflict with, or frustrate the purpose of this rule. See, Ray v. Atlantic Richfield Co. 435 U.S. 151 (1978); and United States and Intertanko v. Locke, 529 U.S. 89 (2000).

Unfunded Mandates Reform Act

The Unfunded Mandates Reform Act of 1995 (2 U.S.C. 1531-1538) requires Federal agencies to assess the effects of their discretionary regulatory actions. In particular, the Act addresses actions that may result in the expenditure of $100 million or more in any one year by a State, local, or tribal government, in the aggregate, or by the private sector. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that, under figure 2-1, paragraph (34)(c), (d), and (e) of Commandant Instruction M16475.lD, this rule is categorically excluded from further environmental documentation. This rule will not result in any significant cumulative impact on the human environment; any substantial controversy or substantial change to existing environmental conditions; any impact, which is more than minimal, on properties protected under 4(f) of the DOT Act, as superseded by Public Law 97-449 and Section 106 of the National Historic Preservation Act; or any inconsistencies with any Federal, State, or local laws or administrative determinations relating to the environment. A “Categorical Exclusion Determination” is available in the docket where indicated under ADDRESSES.

List of Subjects

33 CFR Part 175

Marine safety.

33 CFR Part 177

Marine safety.

33 CFR Part 179

Marine safety, Reporting and recordkeeping requirements.

33 CFR Part 181

Labeling, Marine safety, Reporting and recordkeeping requirements.

33 CFR Part 183

Marine safety.

46 CFR Part 2

Marine safety, Reporting and recordkeeping requirements, Vessels.

46 CFR Part 10

Penalties, Reporting and recordkeeping requirements, Schools, Seamen.

46 CFR Part 15

Reporting and recordkeeping requirements, Seamen, Vessels.

46 CFR Part 24

Marine safety.

46 CFR Part 25

Fire prevention, Marine safety, Reporting and recordkeeping requirements.

46 CFR Part 26

Marine safety, Penalties, Reporting and recordkeeping requirements.

46 CFR Part 30

Cargo vessels, Foreign relations, Hazardous materials transportation, Penalties, Reporting and recordkeeping requirements, Seamen.

46 CFR Part 70

Marine safety, Passenger vessels, Reporting and recordkeeping requirements.

46 CFR Part 90

Cargo vessels, Marine safety.

46 CFR Part 114

Marine safety, Passenger vessels, Reporting and recordkeeping requirements.

46 CFR Part 169

Fire prevention, Marine safety, Reporting and recordkeeping requirements, Schools, Vessels.

46 CFR Part 175

Marine safety, Passenger vessels, Reporting and recordkeeping requirements.

46 CFR Part 188

Marine safety, Oceanographic research vessels.

46 CFR Part 199

Cargo vessels, Marine safety, Oil and gas exploration, Passenger vessels, Reporting and recordkeeping requirements.

For the reasons discussed in the preamble, the Coast Guard amends 33 CFR parts 175, 177, 179, 181, and 183 as well as 46 CFR parts 2, 10, 15, 24, 25, 26, 30, 70, 90, 114, 169, 175, 188, and 199 as follows:

33 CFR Chapter I

PART 175—EQUIPMENT REQUIREMENTS

1. The authority citation for part 175 is revised to read as follows:

Authority: 46 U.S.C. 4302; Pub. L. 103-206, 107 Stat. 2439; 49 CFR 1.46.

2. In § 175.3, revise the definition of the following terms, in alphabetical order, to read as follows:

§ 175.3 Definitions.

* * * * *

Boat means any vessel—

(1) Manufactured or used primarily for noncommercial use;

(2) Leased, rented, or chartered to another for the latter's noncommercial use; or

(3) Operated as an uninspected passenger vessel subject to the requirements of 46 CFR chapter I, subchapter C.

Passenger means an individual carried on a vessel except—

(1) The owner or an individual representative of the owner or, in the case of a vessel chartered without a crew, an individual charterer, or an individual representative of the charterer;

(2) The master or operator of a recreational vessel; or

(3) A member of the crew engaged in the business of the vessel, who has not contributed consideration for carriage, and who is paid for onboard services.

* * * * *

Recreational vessel means any vessel being manufactured or operated primarily for pleasure, or leased, rented, or chartered to another for the latter's pleasure. It does not include a vessel engaged in the carriage of passengers-for-hire as defined in 46 CFR chapter I, subchapter C, or in other subchapters of this title.

* * * * *

3. Revise § 175.110(a) to read as follows:

§ 175.110 Visual distress signals required.

(a) No person may use a boat 16 feet or more in length, or any boat operating as an uninspected passenger vessel subject to the requirements of 46 CFR chapter I, subchapter C, unless visual distress signals selected from the list in § 175.130 or the alternatives in § 175.135, in the number required, are onboard. Devices suitable for day use and devices suitable for night use, or devices suitable for both day and night use, must be carried.

* * * * *

PART 177—CORRECTION OF ESPECIALLY HAZARDOUS CONDITIONS

4. The authority citation for part 177 is revised to read as follows:

Authority: 46 U.S.C. 4302, 4311; Pub. L. 103-206, 107 Stat. 2439; 49 CFR 1.45 and 1.46.

5. Revise § 177.03(b) to read as follows:

§ 177.03 Definitions.

* * * * *

(b) Boat means any vessel—

(1) Manufactured or used primarily for noncommercial use;

(2) Leased, rented, or chartered to another for the latter's noncommercial use; or

(3) Operated as an uninspected passenger vessel subject to the requirements of 46 CFR chapter I, subchapter C.

* * * * *

PART 179—DEFECT NOTIFICATION

6. The authority citation for part 179 is revised to read as follows:

Authority: 43 U.S.C. 1333; 46 U.S.C. 4302, 4307, 4310, and 4311; Pub. L 103-206, 107 Stat. 2439; 49 CFR 1.46.

7. In § 179.03, revise the definition of the term “Boat” to read as follows:

§ 179.03 Definitions.

* * * * *

Boat means any vessel—

(1) Manufactured or used primarily for noncommercial use;

(2) Leased, rented, or chartered to another for the latter's noncommercial use; or

(3) Operated as an uninspected passenger vessel subject to the requirements of 46 CFR chapter I, subchapter C.

* * * * *

PART 181—MANUFACTURER REQUIREMENTS

8. The authority citation for part 181 is revised to read as follows:

Authority: 46 U.S.C. 4302 and 4310; Pub.L 103-206, 107 Stat. 2439; 49 CFR 1.46.

9. In § 181.3, revise the definition of the term “Boat” to read as follows:

§ 181.3 Definitions.

* * * * *

Boat means any vessel—

(1) Manufactured or used primarily for noncommercial use;

(2) Leased, rented, or chartered to another for the latter's noncommercial use; or

(3) Operated as an uninspected passenger vessel subject to the requirements of 46 CFR chapter I, subchapter C.

* * * * *

PART 183—BOATS AND ASSOCIATED EQUIPMENT

10. The authority citation for part 183 is revised to read as follows:

Authority: 46 U.S.C. 4302; Pub. L 103-206, 107 Stat. 2439; 49 CFR 1.46.

11. In § 183.3, revise the definition of the term “Boat” to read as follows:

§ 183.3 Definitions.

* * * * *

Boat means any vessel—

(1) Manufactured or used primarily for noncommercial use;

(2) Leased, rented, or chartered to another for the latter's noncommercial use; or

(3) Operated as an uninspected passenger vessel subject to the requirements of 46 CFR chapter I, subchapter C.

* * * * *

46 CFR Chapter I

PART 2—VESSEL INSPECTIONS

12. The authority citation for part 2 is revised to read as follows:

Authority: 33 U.S.C. 1903; 43 U.S.C. 1333; 46 U.S.C. 3103, 3205, 3306, 3307, 3703; Pub. L 103-206, 107 Stat. 2439; E.O. 12234, 45 FR 58801, 3 CFR, 1980 Comp., p. 277; 49 CFR 1.46; subpart 2.45 also issued under the authority of Act Dec. 27, 1950, Ch. 1155, secs. 1, 2, 64 Stat. 1120 (see 46 U.S.C. App. note prec. 1).

13. In § 2.01-7(a), redesignate table 2.01-7(A) as table 2.01-7(a) and revise it to read as follows:

§ 2.01-7 Classes of vessels (including motorboats) examined or inspected and certificated.

(a) * * *

BILLING CODE 4910-15-P

BILLING CODE 4910-15-C

* * * * *

14. Revise § 2.01-45 to read as follows:

§ 2.01-45 Excursion permit.

(a) Under 46 U.S.C. 2113, the Coast Guard may issue a permit to the owner, operator, or agent of a passenger vessel, allowing the vessel to engage in excursions that carry additional numbers of passengers, extend an existing route, or both. Details concerning the application process for excursion permits for inspected passenger vessels are contained in §§ 71.10, 115.204, or §176.204 of this chapter. Details concerning the application process for special permits for uninspected passenger vessels are contained in § 26.03-6 of this chapter.

(b) For Marine Events of National Significance, as determined by the Commandant, U.S. Coast Guard, a vessel may be permitted to engage in these events while carrying passengers-for-hire for the duration of the event. Event sponsors must request this determination in writing from the Commandant (G-M) at least 1 year prior to the event. Details concerning the application process for special permits for Marine Events of National Significance are contained in § 26.03-8 of this chapter.

(c) The application for an excursion permit is made by the master, owner, or agent of the vessel to the Officer in Charge, Marine Inspection, on Coast Guard Form CG-950, Application for Excursion Permit. If, after inspection, permission is granted, it is given on Coast Guard form CG-949, Permission to Carry Excursion Party. The permit describes the vessel, the route over which and the period during which the excursions may be made, and the safety equipment required for the additional persons indicated.

PART 10—LICENSING OF MARITIME PERSONNEL

15. The authority citation for part 10 is revised to read as follows:

Authority: 31 U.S.C. 9701, 46 U.S.C. 2101, 2103, 2110; 46 U.S.C. Chapter 71; 46 U.S.C. 7502, 7505, 7701; Pub. L. 103-206, 107 Stat. 2439; 49 CFR 1.45, 1.46; Sec. 10.107 also issued under the authority of 44 U.S.C. 3507.

16. Revise the heading of § 10.467 to read as follows:

§ 10.467 Licenses for operators of uninspected passenger vessels of less than 100 gross tons.

* * * * *

PART 15—MANNING REQUIREMENTS

17. The authority citation for part 15 is revised to read as follows:

Authority: 46 U.S.C. 2101, 2103, 3306, 3703, 8101, 8102, 8104, 8105, 8301, 8304, 8502, 8503, 8701, 8702, 8901, 8902, 8903, 8904, 8905(b), 9102; Pub. L. 103-206, 107 Stat. 2439; 49 CFR 1.45 and 1.46.

18. In § 15.301(a), add, in alphabetical order, the definitions of “Operate, operating, or operation” and “Underway” to read as follows:

§ 15.301 Definitions of terms used in this part.

(a) * * *

Operate, operating, or operation, as applied to vessels, refers to a vessel anytime passengers are embarked whether the vessel is underway, at anchor, made fast to shore, or aground.

* * * * *

Underway means that a vessel is not at anchor, made fast to the shore, or aground.

* * * * *

19. Revise § 15.605 to read as follows:

§ 15.605 Licensed operators for uninspected passenger vessels.

Each uninspected passenger vessel must be under the direction and control of an individual licensed by the Coast Guard as follows:

(a) Every self-propelled, uninspected vessel as defined by 46 U.S.C. 2101(42)(B), carrying not more than six passengers, must be under the direction and control of an individual holding a license as operator.

(b) Every uninspected passenger vessel of 100 gross tons or more, as defined by 46 U.S.C. 2101(42)(A), must be under the direction and control of a licensed master, pilot, or mate as appropriate.

20. Add § 15.705(f) to read as follows:

§ 15.705 Watches.

* * * * *

(f) Properly manned uninspected passenger vessels of at least 100 gross tons—

(1) Which are underway for no more than 12 hours in any 24-hour period, and which are adequately moored, anchored, or otherwise secured in a harbor of safe refuge for the remainder of that 24-hour period may operate with one navigational watch;

(2) Which are underway more than 12 hours in any 24-hour period must provide a minimum of a two-watch system;

(3) In no case may the crew of any watch work more than 12 hours in any 24-hour period, except in an emergency.

21. Add § 15.805(a)(6) to read as follows:

§ 15.805 Master.

(a) * * *

(6) Every uninspected passenger vessel of at least 100 gross tons.

* * * * *

22. Add § 15.855(c) to read as follows:

§ 15.855 Cabin watchmen and fire patrolmen.

* * * * *

(c) For the watchmen described in paragraph (a) of this section, the owner or operator of an uninspected passenger vessel not more than 300 gross tons may substitute the use of fire detectors, heat detectors, smoke detectors, and high-water alarms with audible- and visual-warning indicators, in addition to other required safety alarms, only when each of the following conditions are met:

(1) Fire detectors are located in each space containing machinery or fuel tanks per § 181.400(c) of this chapter.

(2) All grills, broilers, and deep-fat fryers are fitted with a grease extraction hood per § 181.425 of this chapter.

(3) Heat and/or smoke detectors are located in each galley, public accommodation space, enclosed passageway, berthing space, and all crew spaces.

(4) High-water alarms are located in each space with a through hull fitting below the deepest load waterline, a machinery space bilge, bilge well, shaft alley bilge, or other space subject to flooding from sea water piping within the space, and a space below the waterline with non-watertight closure such as a space with a non-watertight hatch on the main deck.

(5) Each alarm has an audible- and visual-alarm indicator located at the normal operating station and, if the normal operating position is not continually manned and not navigating underway, in an alternate location that must provide the crew, and may at all times provide the passengers, immediate warning of a hazardous condition.

(6) The vessel is underway for no more than 12 hours in any 24-hour period, and the master of the vessel has chosen to operate with less than a three-watch system in accordance with § 15.705.

23. Revise § 15.905 to read as follows:

§ 15.905 Uninspected passenger vessels.

(a) An individual holding a license as master or pilot of an inspected, self-propelled vessel is authorized to serve as operator of an uninspected passenger vessel under 100 gross tons within any restrictions, other than gross tonnage limitations, on the individual's license.

(b) An individual holding a license as a master or pilot of an inspected, self-propelled vessel is authorized to serve as master, as required by 46 CFR 15.805(a)(6), of an uninspected passenger vessel of at least 100 gross tons within any restrictions, including gross tonnage and route, on the individual's license.

(c) An individual holding a license as mate of inspected, self-propelled vessels (other than Great Lakes, inland, or river vessels of not more than 200 gross tons) is authorized to serve as operator of uninspected passenger vessels of less than 100 gross tons within any restrictions, other than gross tonnage limitations, on the individual's license.

PART 24—GENERAL PROVISIONS

24. The authority citation for part 24 is revised to read as follows:

Authority: 46 U.S.C. 2113, 3306, 4104, 4302; Pub. L. 103-206, 107 Stat. 2439; E.O. 12234, 45 FR 58801, 3 CFR, 1980 Comp., p. 277; 49 CFR 1.46.

25. In § 24.05-1, revise paragraph (a), introductory text, and table 24.05-1(a) to read as follows:

§ 24.05-1 Vessels subject to the requirements of this subchapter.

(a) This subchapter is applicable to all vessels indicated in Column 5 of Table 24.05-1(a), and is applicable to all such U.S.-flag vessels, and to all such foreign-flag vessels, except as follows:

* * * * *

BILLING CODE 4910-15-P

BILLING CODE 4910-15-C

26. Revise subpart 24.10, consisting of § 24.10-1 to read as follows:

Subpart 24.10—Definition of Terms Used in This Subchapter

§ 24.10-1 Definitions.

Approved means approved by the Commandant, unless otherwise stated.

Barge means a non-self-propelled vessel.

Carrying freight for hire means the carriage of any goods, wares, or merchandise, or any other freight for a consideration, whether directly or indirectly flowing to the owner, charterer, operator, agent, or any other person interested in the vessel.

Coast Guard District Commander means an officer of the Coast Guard designated as such by the Commandant to command all Coast Guard activities within his or her district, which includes the inspection, enforcement, and administration of Subtitle II, Title 46 U.S. Code; Title 33 U.S. Code; and regulations issued under these statutes.

Commandant means the Commandant of the United States Coast Guard.

Consideration means an economic benefit, inducement, right, or profit, including pecuniary payment accruing to an individual, person, or entity but not including a voluntary sharing of the actual expenses of the voyage by monetary contribution or donation of fuel, food, beverage, or other supplies.

Headquarters means the Office of the Commandant, United States Coast Guard, Washington, DC.

International voyage means a voyage between a country to which SOLAS applies and a port outside that country. A country, as used in this definition, includes every territory for the international relations of which a contracting government to the convention is responsible or for which the United Nations is the administering authority. For the U.S., the term “territory” includes the Commonwealth of Puerto Rico, all possessions of the United States, and all lands held by the United States under a protectorate or mandate. For the purposes of this subchapter, vessels are not considered as being on an “international voyage” when solely navigating the Great Lakes and the St. Lawrence River as far east as a straight line drawn from Cap des Rosiers to West Point, Anticosti Island and, on the north side of Anticosti Island, the 63rd meridian.

Marine inspector or inspector means any person from the civilian or military branch of the Coast Guard assigned under the direction of an Officer in Charge, Marine Inspection, or any other person designated to perform duties related to the inspection, enforcement, and administration of Subtitle II, Title 46 U.S. Code; Title 33 U.S. Code; and regulations issued under these statutes.

Motor vessel means any vessel more than 65 feet in length, which is propelled by machinery other than steam.

Motorboat means any vessel indicated in column five of Table 24.05-1(a) in § 24.05-1, 65 feet in length or less, which is equipped with propulsion machinery (including steam). The length must be measured from end-to-end over the deck, excluding sheer. This term includes a boat equipped with a detachable motor. For the purpose of this subchapter, motorboats are included under the term vessel, unless specifically noted otherwise.

(1) The various length categories of motorboats are as follows:

(i) Any motorboat less than 16 feet in length.

(ii) Any motorboat 16 feet or over and less than 26 feet in length.

(iii) Any motorboat 26 feet or over and less than 40 feet in length.

(iv) Any motorboat 40 feet or over and not more than 65 feet in length.

(2) The expression “length must be measured from end-to-end over the deck excluding sheer” means a straight-line measurement of the overall length from the foremost part of the vessel to the aftermost part of the vessel, measured parallel to the centerline. Bowsprits, bumpkins, rudders, outboard motor brackets, and similar fittings or attachments, are not to be included in the measurement. Length must be stated in feet and inches.

Oceans means a route that goes beyond 20 nautical miles offshore on any of the following waters:

(1) Any ocean.

(2) The Gulf of Mexico.

(3) The Caribbean Sea.

(4) The Bering Sea.

(5) The Gulf of Alaska.

(6) Such other similar waters as may be designated by a Coast Guard District Commander.

Officer in Charge, Marine Inspection or OCMI means any person from the civilian or military branch of the Coast Guard designated as such by the Commandant and who, under the direction of the Coast Guard District Commander, is in charge of an inspection zone for performance of duties related to the inspection, enforcement, and administration of Subtitle II, Title 46 U.S. Code; Title 33 U.S. Code; and regulations issued under these statutes.

Passenger means an individual carried on a vessel, except—

(1) The owner or an individual representative of the owner, or in the case of a vessel under charter, an individual charterer or individual representative of the charterer;

(2) The master; or

(3) A member of the crew engaged in the business of the vessel, who has not contributed consideration for carriage, and who is paid for onboard services.

Passenger-for-hire means a passenger for whom consideration is contributed as a condition of carriage on the vessel, whether directly or indirectly flowing to the owner, charterer, operator, agent, or any other person having an interest in the vessel.

Survival craft, when used on an uninspected passenger vessel over 100 gross tons means a lifeboat, inflatable liferaft, inflatable buoyant apparatus, or small boat.

Vessel, as used in this subpart includes all vessels indicated in column five of Table 24.05-1(a) in § 24.05-1, unless otherwise noted in this subpart.

Uninspected passenger vessel means an uninspected vessel—

(1) Of at least 100 gross tons;

(i) Carrying not more than 12 passengers, including at least one passenger-for-hire; or

(ii) That is chartered with the crew provided or specified by the owner or the owner's representative and carrying not more than 12 passengers; and

(2) Of less than 100 gross tons;

(i) Carrying not more than six passengers, including at least one passenger-for-hire; or

(ii) That is chartered with the crew provided or specified by the owner or the owner's representative and carrying not more than six passengers.

PART 25—REQUIREMENTS

27. The authority citation for part 25 is revised to read as follows:

Authority: 33 U.S.C. 1903(b); 46 U.S.C. 3306, 4302; Pub. L 103-206, 107 Stat. 2439; 49 CFR 1.46.

28. Revise § 25.25-5(d) to read as follows:

§ 25.25-5 Life preservers and other lifesaving equipment required.

* * * * *

(d) In addition to the equipment required by paragraph (b) and (c) of this section, each vessel 26 feet in length or longer must have at least one approved ring life buoy, and each uninspected passenger vessel of at least 100 gross tons must have at least three ring life buoys. Ring life buoys must be constructed per subpart 160.050 of part 160 of this chapter. The exception is a ring life buoy that was approved prior to May 9, 1979, under former subpart 160.009 of part 160 of this chapter (see 46 CFR chapter I, revised as of October 1, 1979), which may be used as long as it is in good and serviceable condition.

* * * * *

29. Add § 25.25-17 to read as follows:

§ 25.25-17 Survival craft requirements for uninspected passenger vessels of at least 100 gross tons.

(a) Each uninspected passenger vessel of at least 100 gross tons must have adequate survival craft with enough capacity for all persons aboard and must meet one of the following requirements:

(1) An inflatable liferaft must be approved under 46 CFR part 160, subparts 160.051 or 160.151, and be equipped with an applicable equipment pack or be approved by another standard specified by the Commandant. Inflatable liferafts must be serviced at a servicing facility approved under 46 CFR part 160, subpart 160.151.

(2) An inflatable buoyant apparatus must be approved under 46 CFR part 160, subpart 160.010 or under another standard specified by the Commandant. An inflatable buoyant apparatus must be serviced at a servicing facility approved under 46 CFR part 160, subpart 160.151.

(b) If the vessel carries a small boat or boats, the capacity of the small boat or boat(s) may be counted toward the survival craft capacity required by this part. Such small boat or boat(s) must meet the requirements for safe loading and floatation in 33 CFR part 183.

30. Add § 25.25-19 to read as follows:

§ 25.25-19 Visual distress signals.

Each uninspected passenger vessel must meet the visual distress signal requirements of 33 CFR part 175 applicable to the vessel.

31. Revise § 25.26-10 to read as follows:

§ 25.26-10 EPIRB requirements for uninspected passenger vessels.

(a) Uninspected passenger vessels less than 100 gross tons are not required to carry an EPIRB.

(b) The owner, operator, or master of an uninspected passenger vessel of at least 100 gross tons must ensure that the vessel does not operate beyond three miles from shore as measured from the territorial sea baseline seaward or more than three miles from the coastline of the Great Lakes, unless it has onboard a float-free, automatically activated Category 1 406 MHz EPIRB stowed in a manner so that it will float free if the vessel sinks.

32. In § 25.30-20, redesignate paragraphs (b) and (c) as paragraphs (c) and (d), respectively, and add a new paragraph (b) to read as follows:

§ 25.30-20 Fire extinguishing equipment required.

* * * * *

(b) Uninspected passenger vessels of at least 100 gross tons. All uninspected passenger vessels of at least 100 gross tons must carry onboard hand-portable and semi-portable fire extinguishers per Table 76.50-10(a) in § 76.50-10 of this chapter.

* * * * *

PART 26—OPERATIONS

33. The authority citation for part 26 is revised to read as follows:

Authority: 46 U.S.C. 3306, 4104, 6101, 8105; Pub. L. 103-206, 107 Stat. 2439; E.O. 12234, 45 FR 58801, 3 CFR, 1980 Comp., p. 277; 49 CFR 1.46.

34. Revise § 26.03-1(a), introductory text, to read as follows:

§ 26.03-1 Safety orientation.

(a) Before getting underway on any uninspected passenger vessel, the operator or master must ensure that suitable public announcements, instructive placards, or both, are provided in a manner that affords all passengers the opportunity to become acquainted with:

* * * * *

35. Revise § 26.03-2(a) to read as follows:

§ 26.03-2 Emergency instructions.

(a) The operator or master of each uninspected passenger vessel must ensure that an emergency check-off list is posted in a prominent and accessible place to notify the passengers and remind the crew of precautionary measures that may be necessary if an emergency situation occurs.

* * * * *

36. Add § 26.03-4 to read as follows:

§ 26.03-4 Charts and nautical publications.

(a) As appropriate for the intended voyage, all vessels must carry adequate and up-to-date—

(1) Charts of appropriate scale to make safe navigation possible;

(2) “U.S. Coast Pilot” or similar publication;

(3) Coast Guard light list;

(4) Tide tables; and

(5) Current tables, or a river current publication issued by the U.S. Army Corps of Engineers, or a river authority.

(b) As an alternative, you may substitute extracts or copies from the publications in paragraph (a) of this section. This information must be applicable to the area transited.

§ 26.03-5 [Removed]

37. Remove § 26.03-5.

38. Add § 26.03-6 to read as follows:

§ 26.03-6 Special permit.

(a) If the owner, operator, or agent donates the use of an uninspected passenger vessel to a charity for fundraising activities, and the vessel's activity would subject it to Coast Guard inspection, the OCMI may issue a special permit to the owner, operator, or agent for this purpose if, in the opinion of the OCMI, the vessel can be safely operated. Each special permit is valid for only one voyage of a donated vessel, which is used for a charitable purpose. Applications are considered and approved on a case-by-case basis.

(b) The criteria of § 176.204 of this chapter will apply to the issuance of a special permit. In addition, the owner, operator, or agent must meet each of these conditions—

(1) Any charity using a donated vessel must be a bona fide charity or a non-profit organization qualified under section 501(c)(3) of the Internal Revenue Code of 1986;

(2) All donations received from the fundraising must go to the named charity;

(3) The owner, operator, or agent may obtain a special permit for an individual vessel not more than four times in a 12-month period; and

(4) The owner, operator, or agent must apply to the local OCMI for a special permit prior to the intended voyage, allowing adequate time for processing and approval of the permit.

(c) Nothing in this part may be construed as limiting the OCMI from making such tests and inspections, both afloat and in dry-dock, that are reasonable and practicable to be assured of the vessel's seaworthiness and safety.

39. Revise § 26.03-8 to read as follows:

§ 26.03-8 Marine Event of National Significance special permits.

(a) For a Marine Event of National Significance, as determined by the Commandant, U.S. Coast Guard, a vessel may be permitted to engage in excursions while carrying passengers-for-hire for the duration of the event. Event sponsors seeking this determination must submit a written request to the Commandant (G-M) at least one year prior to the event.

(b) The owner, operator, or agent of a vessel that is registered as a participant in a Marine Event of National Significance may apply for a special permit to carry passengers-for-hire for the duration of the event. The master, owner, or agent of the vessel must apply to the Coast Guard OCMI who has jurisdiction over the vessel's first United States port of call. The OCMI may issue a Form CG-949 “Permit to Carry Excursion Party” if, in the opinion of the OCMI, the operation can be undertaken safely. The OCMI may require an inspection prior to issuance of a special permit to ensure that the vessel can safely operate under the conditions for which the permit is issued.

(c) The permit will state the conditions under which it is issued. These conditions must include the number of passengers-for-hire the vessel may carry, the crew required, the number and type of lifesaving and safety equipment required, the route and operating details for which the permit is issued, and the dates for which the permit will be valid.

(d) The permit must be displayed in a location visible to passengers.

(e) The carrying of passengers-for-hire during a Marine Event of National Significance must comply with the regulations governing coastwise transportation of passengers under 19 CFR 4.50(b) and 19 CFR 4.80(a).

40. Add § 26.03-9 to read as follows:

§ 26.03-9 Voyage plans for uninspected passenger vessels of at least 100 gross tons.

(a) The master must prepare a voyage plan that includes a crew and passenger list before taking an uninspected passenger vessel of at least 100 gross tons on a Great Lake, an ocean, or an international voyage.

(b) Before departure, the master must communicate the voyage plan ashore, either verbally or in writing. The voyage plan must go to either the vessel's normal berthing location or a representative of the owner or managing operator of the vessel. The master, owner, or operator of the vessel must make the voyage plan available to the Coast Guard upon request.

Subpart 26.20—Exhibition of Coast Guard License

41. Revise the heading of subpart 26.20 to read as set forth above.

42. Revise § 26.20-1 to read as follows:

§ 26.20-1 Must be available.

If a person operates a vessel that carries one or more passengers-for-hire, he or she is required to have a valid Coast Guard license suitable for the vessel's route and service. He or she must have the license in his or her possession and must produce it immediately upon the request of a Coast Guard boarding officer.

PART 30—GENERAL PROVISIONS

43. The authority citation for part 30 is revised to read as follows:

Authority: 46 U.S.C. 2103, 3306, 3703; Pub. L. 103-206, 107 Stat. 2439; 49 U.S.C. 5103, 5106; 49 CFR 1.45, 1.46; Section 30.01-2 also issued under the authority of 44 U.S.C. 3507; Section 30.01-05 also issued under the authority of Sec. 4109, Pub. L. 101-380, 104 Stat. 515.

44. In § 30.01-5, revise paragraph (d), introductory text, redesignate table 30.01-5(D) as table 30.01-5(d), and revise redesignated table 30.01-5(d) to read as follows:

§ 30.01-5 Application of regulations—TB/ALL.

* * * * *

(d) This subchapter is applicable to all U.S.-flag vessels indicated in Column 2 of Table 30.01-5(d), except as follows:

* * * * *

BILLING CODE 4910-15-P

BILLING CODE 4910-15-C

* * * * *

PART 70—GENERAL PROVISIONS

45. The authority citation for part 70 is revised to read as follows:

Authority: 46 U.S.C. 3306, 3703; Pub. L 103-206, 107 Stat. 2439; 49 U.S.C. 5103, 5106; E.O. 12234, 45 FR 58801, 3 CFR, 1980 Comp., p. 277; 49 CFR 1.45, 1.46; Section 70.01-15 also issued under the authority of 44 U.S.C. 3507.

46. In § 70.05-1, revise paragraph (a), introductory text, and table 70.05-1(a) to read as follows:

§ 70.05-1 United States flag vessels subject to the requirements of this subchapter.

(a) This subchapter is applicable to all U.S.-flag vessels indicated in Column 3 of table 70.05-1(a) that are 100 gross tons or more, except as follows:

* * * * *

BILLING CODE 4910-15-P

BILLING CODE 4910-15-C

* * * * *

47. Add § 70.05-18 to read as follows:

§ 70.05-18 Applicability to vessels operating under an exemption afforded in the Passenger Vessel Safety Act of 1993 (PVSA).

(a) The Passenger Vessel Safety Act of 1993 (PVSA) contained an allowance for the exemption of certain passenger vessels that are—

(1) At least 100 gross tons but less than 300 gross tons; or

(2) Former public vessels of at least 100 gross tons but less than 500 gross tons.

(b) The owner or operator of a vessel must have applied for an exemption under the PVSA by June 21, 1994, and then brought the vessel into compliance with the interim guidance in Navigation and Inspection Circular (NVIC) 7-94 not later than December 21, 1996. The PVSA exemption is valid for the service life of the vessel, as long as the vessel remains certified for passenger service. If the Certificate of Inspection (COI) is surrendered or otherwise becomes invalid (not including a term while the vessel is out of service but undergoing an inspection for recertification), the owner or operator must meet the appropriate inspection regulations to obtain a new COI without the PVSA exemption. See 46 CFR 175.118 for information about applicable regulations for vessels that operate under the PVSA exemption.

48. Revise subpart § 70.10, consisting of § 70.10-1, to read as follows:

Subpart 70.10—Definition of Terms Used in This Subchapter

§ 70.10-1 Definitions.

Approved means approved by the Commandant, unless otherwise stated.

Barge means any non-self-propelled vessel.

Carrying freight for hire means the carriage of any goods, wares, or merchandise, or any other freight for a consideration, whether directly or indirectly flowing to the owner, charterer, operator, agent, or any other person interested in the vessel.

Classed vessel means any vessel classed by the American Bureau of Shipping or other recognized classification society.

Coast Guard District Commander means an officer of the Coast Guard designated as such by the Commandant to command all Coast Guard activities within his or her district, which include the inspection, enforcement, and administration of Subtitle II, Title 46 U.S. Code; Title 33 U.S. Code; and regulations issued under these statutes.

Coastwise is a designation of service that includes all vessels normally navigating the waters of any ocean or the Gulf of Mexico 20 nautical miles or less offshore.

Commandant means the Commandant of the United States Coast Guard.

Consideration means an economic benefit, inducement, right, or profit including pecuniary payment accruing to an individual, person, or entity but not including a voluntary sharing of the actual expenses of the voyage by monetary contribution or donation of fuel, food, beverage, or other supplies.

Ferry is a designation that includes those vessels, in other than ocean or coastwise service, having provisions only for deck passengers and/or vehicles, operating on a short run, on a frequent schedule between two points over the most direct water route, and offering a public service of a type normally attributed to a bridge or tunnel.

Great Lakes is a designation of service that includes all vessels navigating the Great Lakes.

Headquarters means the Office of the Commandant, United States Coast Guard, Washington, DC 20593.

Lakes, bays, and sounds is a designation of service that includes all vessels navigating the waters of the lakes, bays, or sounds other than the waters of the Great Lakes.

Marine inspector or inspector means any person from the civilian or military branch of the Coast Guard assigned under the direction of an Officer in Charge, Marine Inspection, or any other person designated to perform duties related to the inspection, enforcement, and administration of Subtitle II, Title 46 U.S. Code; Title 33 U.S. Code; and regulations issued under these statutes.

Motor vessel means any vessel more than 65 feet in length, which is propelled by machinery other than steam.

Ocean is a designation of service that includes all vessels navigating the waters of any ocean or the Gulf of Mexico more than 20-nautical miles offshore.

Officer in Charge, Marine Inspection means any person from the civilian or military branch of the Coast Guard designated as such by the Commandant and who, under the direction of the Coast Guard District Commander, is in charge of an inspection zone for the performance of duties related to the inspection, enforcement, and administration of Subtitle II, Title 46 U.S. Code; Title 33 U.S. Code; and regulations issued under these statutes.

Passenger means—

(1) On an international voyage, every person other than—

(i) The master and the members of the crew or other persons employed or engaged in any capacity onboard a vessel on the business of that vessel; and

(ii) A child under the age of one.

(2) On other than an international voyage, an individual carried on the vessel, except—

(i) The owner or an individual representative of the owner or, in the case of a vessel under charter, an individual charterer or individual representative of the charterer;

(ii) The master; or

(iii) A member of the crew engaged in the business of the vessel, who has not contributed consideration for carriage, and who is paid for onboard services.

Passenger-for-hire means a passenger for whom consideration is contributed as a condition of carriage on the vessel, whether directly or indirectly flowing to the owner, charterer, operator, agent, or any other person having an interest in the vessel.

Passenger vessel means—

(1) On an international voyage, a vessel of at least 100 tons gross tonnage carrying more than 12 passengers; and

(2) On other than an international voyage, a vessel of at least 100 tons gross tonnage—

(i) Carrying more than 12 passengers, including at least one passenger-for-hire;

(ii) That is chartered and carrying more than 12 passengers; or

(iii) That is a submersible vessel and carrying at least one passenger-for-hire.

Pilot boarding equipment means a pilot ladder, accommodation ladder, pilot hoist, or combination of them, as required by this subchapter.

Point of access means the place on the deck of a vessel where a person steps onto or off pilot boarding equipment.

Recognized classification society means the American Bureau of Shipping or other classification society as recognized by the Commandant.

Rivers is a designation of service that includes all vessels whose navigation is restricted to rivers and/or canals, and to such other waters as may be designated by the Coast Guard District Commander.

Sailing vessel means a vessel with no mechanical means of propulsion, all propulsive power being provided by sails.

Short international voyage means an international voyage in the course of which a vessel is not more than 200 miles from a port or place in which the passengers and crew could be placed in safety. Neither the distance between the last port of call in the country in which the voyage begins and the final port of destination, nor the return voyage, may exceed 600 miles. The final port of destination is the last port of call in the scheduled voyage at which the vessel commences its return voyage to the country in which the voyage began.

Specially suitable for vehicles is a designation used for a space that is designed for the carriage of automobiles or other self-propelled vehicles with batteries connected and fuel tanks containing gasoline on vessels on ocean or unlimited coastwise voyages. Requirements for the design and protection of spaces specially suitable for vehicles appear in subparts 72.15, 76.15, 77.05, 78.45, 78.47, and 78.83 of parts 72, 76, 77, and 78 of this subchapter. In addition, preparation of automobiles prior to carriage, with the exception of disconnecting battery cables, must be in accordance with the applicable provision of 49 CFR 176.905.

Submersible vessel means a vessel that is capable of operating below the surface of the water.

Vessel, unless otherwise noted in this subpart, includes all vessels indicated in column three of table 70.05-1(a) in § 70.05-1 that exceed 65 feet in length (measured from end-to-end over the deck, excluding sheer) and that carry more than six passengers-for-hire.

PART 90—GENERAL PROVISIONS

49. The authority citation for part 90 is revised to read as follows:

Authority: 46 U.S.C. 3306, 3703; Pub.L 103-206, 107 Stat. 2439; 49 U.S.C. 5103, 5106; E.O. 12234, 45 FR 58801, 3 CFR, 1980 Comp., p. 277; 49 CFR 1.46.

50. In § 90.05.1, revise paragraph (a), introductory text, and table 90.05-1(a) to read as follows:

§ 90.05-1 Vessels subject to the requirements of this subchapter.

(a) This subchapter is applicable to all U.S.-flag vessels indicated in Column 4 of Table 90.05-1(a) and to all such foreign-flag vessels which carry 12 or fewer passengers from any port in the United States to the extent prescribed by law, except as follows:

* * * * *

BILLING CODE 4910-15-P

BILLING CODE 4910-15-C

* * * * *

PART 114—GENERAL PROVISIONS

51. The authority citation for part 114 is revised to read as follows:

Authority: 46 U.S.C. 2103, 3306, 3703; Pub. L. 103-206, 107 Stat. 2439; 49 U.S.C. App. 1804; 49 CFR 1.45, 1.46; § 114.900 also issued under 44 U.S.C. 3507.

52. In § 114.400(b), add, in alphabetical order, the definition of “Submersible vessel” to read as follows:

§ 114.400 Definitions of terms used in this subchapter.

* * * * *

Submersible vessel means a vessel that is capable of operating below the surface of the water.

* * * * *

PART 169—SAILING SCHOOL VESSELS

53. The authority citation for part 169 is revised to read as follows:

Authority: 33 U.S.C. 1321(j); 46 U.S.C. 3306, 6101; Pub. L. 103-206, 107 Stat. 2439; E.O. 11735, 38 FR 21243, 3 CFR, 1971-1975 Comp., p. 793; 49 CFR 1.45, 1.46; § 169.117 also issued under the authority of 44 U.S.C. 3507.

54. Revise § 169.103(a) and (b) to read as follows:

§ 169.103 Applicability.

(a) This subchapter applies to each domestic vessel operating as a sailing school vessel.

(b) This subchapter does not apply to—

(1) Any vessel operating exclusively on inland waters, which are not navigable waters of the United States;

(2) Any vessel while laid up, dismantled, and out of service;

(3) Any vessel with title vested in the United States and which is used for public purposes except vessels of the U.S. Maritime Administration;

(4) Any vessel carrying one or more passengers;

(5) Any vessel operating under the authority of a current valid certificate of inspection issued per the requirements of 46 CFR chapter I, subchapter H or T, 46 CFR parts 70 through 78 and parts 175 through 187, respectively; or

(6) Any foreign vessel.

* * * * *

55. Amend § 169.107 as follows:

(1) Remove paragraph (g);

(2) Remove only the paragraph designations from remaining paragraphs (a) through (f) and (h) through (z);

(3) Add, in alphabetical order, the definition of “demise charter”; and

(4) Revise the definitions of “passenger” and “sailing instruction”.

The additions and revisions read as follows:

§ 169.107 Definitions.

* * * * *

Demise charter means a legally binding document for a term of one year or more under which for the period of the charter, the party who leases or charters the vessel, known as the demise or bareboat charterer, assumes legal responsibility for all of the incidents of ownership, including insuring, manning, supplying, repairing, fueling, maintaining and operating the vessel. The term demise or bareboat charterer is synonymous with “owner pro hac vice”.

* * * * *

Passenger on a sailing school vessel means an individual carried on the vessel except—

(1) The owner or an individual representative of the owner or, in the case of a vessel under charter, an individual charterer or individual representative of the charterer;

(2) The master;

(3) A member of the crew engaged in the business of the vessel, who has not contributed consideration for carriage, and who is paid for onboard services;

(4) An employee of the owner of the vessel engaged in the business of the owner, except when the vessel is operating under a demise charter;

(5) An employee of the demise charterer of the vessel engaged in the business of the demise charterer; or

(6) A sailing school instructor or sailing school student.

* * * * *

Sailing instruction means teaching, research, and practical experience in operating vessels propelled primarily by sail, and may include any subject related to that operation and the sea, including seamanship, navigation, oceanography, other nautical and marine sciences, and maritime history and literature. In conjunction with any of those subjects, “sailing instruction” also includes instruction in mathematics and language arts skills to a sailing school student with a learning disability.

* * * * *

PART 175—GENERAL PROVISIONS

56. The authority citation for part 175 is revised to read as follows:

Authority: 46 U.S.C. 2103, 3205, 3306, 3703; Pub.L 103-206, 107 Stat. 2439; 49 U.S.C. App. 1804; 49 CFR 1.45, 1.46; 175.900 also issued under authority of 44 U.S.C. 3507.

57. Add § 175.118 to read as follows:

§ 175.118 Vessels operating under an exemption afforded in the Passenger Vessel Safety Act of 1993 (PVSA).

(a) The Passenger Vessel Safety Act of 1993 (PVSA) contained an allowance for the exemption of certain passenger vessels that are—

(1) At least 100 gross tons but less than 300 gross tons; or

(2) Former public vessels of at least 100 gross tons but less than 500 gross tons.

(b) The owner or operator of a vessel must have applied for an exemption under PVSA by June 21, 1994, and then brought the vessel into compliance with the interim guidance in Navigation and Inspection Circular (NVIC) 7-94 not later than December 21, 1996. The PVSA exemption is valid for the service life of the vessel, as long as the vessel remains certified for passenger service. If the Certificate of Inspection (COI) is surrendered or otherwise becomes invalid (not including a term while the vessel is out of service but undergoing an inspection for recertification), the owner or operator must meet the appropriate inspection regulations to obtain a new COI without the PVSA exemption.

(c) Except where the provisions of subchapter H of this chapter apply, the owner or operator must ensure that the vessel meets the requirements of this subchapter, meets any requirements the OCMI deems applicable, and meets any specific additions or exceptions as follows:

(1) If a vessel does not meet the intact stability requirements of subchapter S of this chapter, the vessel's route(s) will be limited to an area within 20 nautical miles from a harbor of safe refuge, provided the vessel has a history of safe operation on those waters. The OCMI may further restrict the vessel's routes if the vessel's service history, condition, or other factors affect its seaworthiness or safety.

(2) The vessel may not carry more than 150 passengers, and not more than 49 passengers in overnight accommodations.

(3) The owner or operator must crew the vessel under the requirements of this subchapter. All officers must be licensed for the appropriate vessel tonnage. The OCMI may require a licensed engineer for those vessels of at least 200 gross tons. Vessels carrying more than 50 passengers must have an additional deckhand, and all deckhands on vessels carrying more than 50 passengers must be adequately trained. The crew members on a vessel of at least 200 gross tons, except those operated exclusively on lakes and rivers, are required to hold merchant mariner documents and 50 percent of the unlicensed deck crew must be rated as at least an able seaman.

(4) The vessel owner or operator must comply with the lifesaving arrangements located in part 180 of this chapter, except that inflatable liferafts are required for primary lifesaving. A rescue boat or suitable rescue arrangement must be provided to the satisfaction of the OCMI.

(5) The vessel owner or operator must comply with the fire protection requirements located in part 181 of this chapter. When a vessel fails to meet the fire protection and structural fire protection requirements of this subchapter, the vessel owner or operator must meet equivalent requirements to the satisfaction of the cognizant OCMI or submit plans for approval from the Coast Guard Marine Safety Center.

(6) At a minimum, the owner or operator must outfit the vessel with portable fire extinguishers per 46 CFR 76.50. In addition, the vessel must meet any additional requirements of the OCMI, even if they exceed the requirements in 46 CFR 76.50.

(7) In addition to the means-of-escape requirements of 46 CFR 177.500, the vessel owner or operator must also meet the requirements for means of escape found in 46 CFR 78.47-40.

(d) The OCMI conducts an inspection and may issue a COI if the vessel meets these requirements. The COI's condition of operation must contain the following endorsement: “This vessel is operating under an exemption afforded in The Passenger Vessel Safety Act of 1993 and as such is limited to domestic voyages and a maximum ___ of passengers and may be subject to additional regulations and restrictions as provided for in Sections 511 and 512 of the Act.”

58. In § 175.400, add a definition for “Submersible vessel”, in alphabetical order, to read as follows:

§ 175.400 Definitions of terms used in this subchapter.

* * * * *

Submersible vessel means a vessel that is capable of operating below the surface of the water.

* * * * *

PART 188—GENERAL PROVISIONS

59. The authority citation for part 188 is revised to read as follows:

Authority: 46 U.S.C. 2113, 3306; Pub. L 103-206, 107 Stat. 2439; 49 U.S.C. 5103, 5106; E.O. 12234, 45 FR 58801, 3 CFR, 1980 Comp., p. 277; 49 CFR 1.46.

60. In § 188.05-1, revise paragraph (a), introductory text, and table 188.05-1(a) to read as follows:

188.05-1 Vessels subject to requirements of this subchapter.

(a) This subchapter is applicable to all U.S.-flag vessels indicated in Column 6 of Table 188.05-1(a) to the extent prescribed by applicable laws and the regulations in this subchapter, except as follows:

* * * * *

BILLING CODE 4910-15-P

BILLING CODE 4910-15-C

PART 199—LIFESAVING SYSTEMS FOR CERTAIN INSPECTED VESSELS

61. The authority citation for part 199 is revised to read as follows:

Authority: 46 U.S.C. 3306, 3703; Pub. L 103-206, 107 Stat. 2439; 46 CFR 1.46.

62. In § 199.30, revise the definition of “passenger vessel” to read as follows:

§ 199.30 Definitions.

* * * * *

Passenger vessel means—

(1) On an international voyage, a vessel of at least 100 tons gross tonnage carrying more than 12 passengers; and

(2) On other than an international voyage, a vessel of at least 100 tons gross tonnage—

(i) Carrying more than 12 passengers, including at least one passenger-for-hire; or

(ii) That is chartered and carrying more than 12 passengers; or

(iii) That is a submersible vessel carrying at least one passenger-for-hire.

* * * * *

Dated: April 18, 2002.
Paul J. Pluta,
Rear Admiral, U.S. Coast Guard, Assistant Commandant for Marine Safety, Security and Environmental Protection.

[FR Doc. 02-11060 Filed 5-14-02; 8:45 am]

BILLING CODE 4910-15-P